DEPARTMENT OF LABOR

Employment and Training Administration

[TA-W-71,670]

Indalex, Inc.; Girard, OH; Amended Certification Regarding Eligibility To Apply for Worker Adjustment Assistance

In accordance with Section 223 of the Trade Act of 1974, as amended (“Act”), 19 U.S.C. 2273, the Department of Labor issued a Certification of Eligibility to Apply for Worker Adjustment Assistance on March 3, 2010, applicable to workers of Indalex, Inc., Girard, Ohio. The notice was published in the Federal Register on April 23, 2010 (75 FR 21361).

At the request of the State Agency, the Department reviewed the certification for workers of the subject firm. The workers are engaged in the production of aluminum extrusions, coatings, and fabrications.

The review shows that on May 1, 2008, a certification of eligibility to apply for adjustment assistance was issued for all workers of Indalex Aluminum Solutions, Girard, Ohio, separated from employment on or after March 26, 2007, through May 1, 2010. The notice was published in the Federal Register on May 15, 2008 (73 FR 28167).

In order to avoid an overlap in worker group coverage, the Department is amending the July 13, 2008 impact date established for TA-W-71,670, to read May 2, 2010.

The amended notice applicable to TA-W-71,670 is hereby issued as follows:

All workers of Indalex, Inc., Girard, Ohio (TA-W-71,670) who became totally or partially separated from employment on or after May 2, 2010 through March 3, 2012; and Indalex, Inc., City of Industry, California (TA-W-71,670A); Indalex, Inc., Burlington, North Carolina (TA-W-71,670B); Indalex, Inc., Mountain Top, Pennsylvania (TA-W-71,670C); Indalex, Inc., Connersville, Indiana (TA-W-71,670D); Indalex, Inc., Elkhart, Indiana (TA-W-71,670E); Indalex, Inc., Gainesville, Georgia (TA-W-71,670F); and Indalex, Inc., Kokomo, Indiana (TA-W-71,670G), who became totally or partially separated from employment on or after July 13, 2008, through March 3, 2012, and all workers in the group threatened with total or partial separation from employment on date of certification through two years from the date of certification, are eligible to apply for adjustment assistance under Chapter 2 of Title II of the Trade Act of 1974, as amended.

Signed in Washington, DC, this 12th day of May, 2010.
Del Min Amy Chen,
Certifying Officer, Division of Trade Adjustment Assistance.

[FR Doc. 2010-12256 Filed 5-20-10; 8:45 am]

BILLING CODE 4510-FN-P